DEPARTMENT OF COMMERCE

National Oceanic and Atmospheric Administration

50 CFR Part 648

[Docket No. 250424-0072]

RIN 0648-BN64

Magnuson-Stevens Fishery Conservation and Management Act Provisions; Fisheries of the Northeastern United States; Northeast Multispecies Fishery; Temporary Rule To Extend Fishing Year 2025 Measures

AGENCY: National Marine Fisheries Service (NMFS), National Oceanic and Atmospheric Administration (NOAA), Commerce.

ACTION: Temporary rule; emergency action.

SUMMARY: This rule extends the emergency measures to revise portions of the fishing year 2025 provisions in the Northeast multispecies fishery. This action is necessary to address an emergency presented by an absence of approved specifications and other measures for fishing year 2025. This action is intended to mitigate economic harm to the Northeast multispecies fishery participants by establishing fish stock quotas and related measures that allow the fishery to operate while preventing overfishing.

DATES: Effective as of October 3, 2025, §§ 648.14 and 648.89 as amended at 90 FR 18804 is extended through April 30, 2026.

ADDRESSES: NMFS developed a Supplemental Impact Report (SIR) for the Environmental Assessments (EA) for Framework Adjustments 65 and 66 to the Northeast Multispecies FMP that describes the impact that the measures in this temporary rule would have on the human environment. Copies of the SIR and the Regulatory Impact Review of this rulemaking are available on the internet at: https://www.fisheries.noaa.gov/region/new-england-mid-atlantic. Copies of each sector's operations plan and contracts for fishing years 2025-2026; the Sector Operations Plan, Contract, and EA requirements guidance document for fishing years 2025-2026; and other supporting documents are available from the NMFS Greater Atlantic Regional Fisheries Office website at: https://www.fisheries.noaa.gov/region/new-england-mid-atlantic. Copies of supporting sector documents are available from Heather Nelson at heather.nelson@noaa.gov. Copies of the EAs for Framework Adjustments 65, 66, and 69 are available from Dr. Cate O'Keefe, Executive Director, New England Fishery Management Council, 50 Water Street, Mill 2, Newburyport, MA 01950. The Council's documents are also accessible via the internet at: http://www.nefmc.org/management-plans/northeast-multispecies or http://www.regulations.gov.

FOR FURTHER INFORMATION CONTACT: Heather Nelson, Fishery Management Specialist, phone: 978-281-9334; email: Heather.Nelson@noaa.gov.

SUPPLEMENTARY INFORMATION: On May 2, 2025, NMFS published an emergency rule to implement fishing year 2025 management measures for the Northeast Multispecies Fishery Management Plan (FMP) (90 FR 18804). The emergency rule:

• Set interim fishing year 2025 annual catch limits (ACL) for two stocks of cod—Gulf of Maine (GOM) cod and Georges Bank (GB) cod—as well as for GB haddock;

• Set fishing year 2025 total allowable catches (TAC) for Eastern GB cod and Eastern GB haddock that are shared stocks between the United States and Canada;

• Confirmed projected fishing year 2025 specifications for other Northeast multispecies stocks that were previously published in Framework Adjustments 65 and 66;

• Approved Northeast multispecies (groundfish) sector operations plans and allocated annual catch entitlements (ACE) to the sectors, consistent with the catch limits described above;

• Prohibited recreational fishing vessels from possessing GB cod;

• Prohibited commercial fishing vessels fishing under the common pool management program from possessing GB cod;

• Set trimester TACs and possession limits for commercial vessels fishing in the common pool;

• Allocated zero common pool trips into the Closed Area II Yellowtail Flounder/Haddock Special Access Program (SAP) during fishing year 2025; and

• Closed the Regular B Days-at-Sea (DAS) program and prohibit usage of Regular B DAS in fishing year 2025.

At the time the emergency rule was implemented, NMFS was considering two actions (Amendment 25 and Framework Adjustment 69) submitted by the New England Fishery Management Council (Council) that would have made changes to, and set measures for, the Northeast Multispecies FMP. Pending a final decision on these actions, the emergency rule ensured that the fishery could operate at the start of the fishing year on May 1, 2025, mitigating the adverse economic impact to the groundfish fishery if measures were not put in place.

Following the implementation of the emergency rule, Amendment 25 was disapproved on behalf of the Secretary of Commerce. Framework 69 to the FMP, which recommends the annual specifications necessary to authorize the fishery to operate in the 2025 fishing year beginning on May 1, 2025, and projected specifications for fishing years 2026 and 2027, remains under consideration by NMFS. Framework 69 cannot be implemented when the current emergency rule expires on October 28, even if the framework is approved on or before that date.

The emergency rule is in effect for 180 days, from May 1, 2025, through October 28, 2025. Under the Magnuson-Stevens Fishery Conservation and Management Act, an emergency rule can be extended for an additional 186 days. An extension of the emergency rule is necessary to address the continuing emergency arising from the lack of approved specifications and other measures for the full fishing year 2025. Absent an extension of the rule, the lack of measures on October 29, 2025, would create serious conservation and management problems for the fishery and severe economic harm to the Northeast multispecies fishery participants. Without this extension, vessels participating in the groundfish fishery would be unable to fish for the remainder of the 2025 fishing year (through April 30, 2025) unless replaced by other measures (e.g., Framework 69 measures). This inability to fish would result in substantial adverse economic impacts on vessel owners and operators, dealers, and the fishing communities that rely on them.

With this emergency rule extension, all emergency measures remain in place. Sector and common pool allocations are updated in this extension to reflect the final rosters that were not available when the emergency rule was originally implemented, and these updates are provided in Tables 1-8. Additionally, errors in table formatting in the original emergency rule are corrected. The extended emergency measures would remain in place through April 30, 2026, unless replaced by other measures.

Table 1—Catch Limits for the 2025 Fishing Year
[Mt, live weight]
Stock | Total ACL: A to H | Groundfish sub-ACL: A+B+C | Sector sub-ACL: A | Common pool sub-ACL: B | Recreational sub-ACL: C | Midwater trawl fishery: D | Scallop fishery: E | Small- mesh fisheries: F | State waters sub- component: G | Other sub- component: H
GB Cod | 186 | 140 | 135 | 5 |  |  |  |  | 16 | 31
GOM Cod | 327 | 297 | 169 | 7 | 120 |  |  |  | 30 | 0.0
GB Haddock | 1,478 | 1,449 | 1,415 | 33 |  | 29 |  |  | 0 | 0
GOM Haddock | 2,183 | 2,108 | 1,343 | 36 | 729 | 22 |  |  | 46 | 7.6
GB Yellowtail Flounder | 68 | 56 | 52 | 3.7 |  |  | 11.0 | 1.3 | 0.0 | 0.0
SNE/MA Yellowtail Flounder | 38 | 33 | 24 | 9.0 |  |  | 2.7 |  | 0.2 | 2.0
CC/GOM Yellowtail Flounder | 873 | 808 | 761 | 48 |  |  |  |  | 28 | 37
American Plaice | 5,009 | 4,957 | 4,803 | 154 |  |  |  |  | 26 | 26
Witch Flounder | 1,196 | 1,146 | 1,102 | 44 |  |  |  |  | 19 | 31
GB Winter Flounder | 1,446 | 1,431 | 1,360 | 71 |  |  |  |  | 0 | 15
GOM Winter Flounder | 772 | 607 | 514 | 93 |  |  |  |  | 153 | 12.1
SNE/MA Winter Flounder | 604 | 441 | 375 | 66 |  |  |  |  | 19 | 144
Redfish | 7,859 | 7,859 | 7,762 | 98 |  |  |  |  | 0 | 0
White Hake | 1,825 | 1,816 | 1,795 | 21 |  |  |  |  | 0 | 10
Pollock | 12,683 | 11,619 | 11,492 | 127 |  |  |  |  | 598 | 465
N. Windowpane Flounder | 127 | 94 | na | 94 |  |  | 27 |  | 0.0 | 6.8
S. Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
n/a: not allocated to sectors.

Table 2—Fishing Year 2025 Common Pool Trimester TACs
[Mt, live weight]
Stock | 2025: Trimester 1 | 2025: Trimester 2 | 2025: Trimester 3
GB Cod | 1.3 | 1.6 | 1.8
GOM Cod | 3.4 | 2.3 | 1.2
GB Haddock | 9.0 | 11.0 | 13.3
GOM Haddock | 9.7 | 9.4 | 17.0
GB Yellowtail Flounder | 0.7 | 1.1 | 1.9
SNE/MA Yellowtail Flounder | 1.9 | 2.5 | 4.6
CC/GOM Yellowtail Flounder | 27.1 | 12.4 | 8.1
American Plaice | 113.7 | 12.3 | 27.6
Witch Flounder | 24.1 | 8.8 | 11.0
GB Winter Flounder | 5.7 | 17.0 | 48.2
GOM Winter Flounder | 34.5 | 35.5 | 23.3
Redfish | 24.4 | 30.2 | 42.9
White Hake | 7.9 | 6.5 | 6.5
Pollock | 35.6 | 44.6 | 47.1

Table 3—Fishing Year 2025 Common Pool Incidental Catch TACs
[Mt, live weight]
Stock | Percentage of common pool sub-ACL | 2025
GB Cod | 1.68 | 0.08
GOM Cod | 1 | 0.07
GB Yellowtail Flounder | 2 | 0.07
CC/GOM Yellowtail Flounder | 1 | 0.48
American Plaice | 5 | 7.68
Witch Flounder | 5 | 2.19
SNE/MA Winter Flounder | 1 | 0.66

Table 4—Fishing Year 2025 Incidental Catch TACs for Each Special Management Program
[Mt, live weight]
Stock | Regular B DAS program | Eastern U.S./ Canada haddock SAP
GB Cod | 0.05 | 0.03
GOM Cod | 0.07 | n/a
GB Yellowtail Flounder | 0.04 | 0.04
CC/GOM Yellowtail Flounder | 0.48 | n/a
American Plaice | 7.68 | n/a
Witch Flounder | 2.19 | n/a
SNE/MA Winter Flounder | 0.66 | n/a

Table 5—Fishing Year 2025 Regular B DAS Program Quarterly Incidental Catch TACs
[Mt, live weight]
Stock | 2025: 1st quarter (13 percent) | 2025: 2nd quarter (29 percent) | 2025: 3rd quarter (29 percent) | 2025: 4th quarter (29 percent)
GB Cod | 0.01 | 0.01 | 0.01 | 0.01
GOM Cod | 0.01 | 0.02 | 0.02 | 0.02
GB Yellowtail Flounder | 0.00 | 0.01 | 0.01 | 0.01
CC/GOM Yellowtail Flounder | 0.06 | 0.14 | 0.14 | 0.14
American Plaice | 1.00 | 2.23 | 2.23 | 2.23
Witch Flounder | 0.28 | 0.64 | 0.64 | 0.64
SNE/MA Winter Flounder | 0.09 | 0.19 | 0.19 | 0.19

BILLING CODE 3510-22-P

BILLING CODE 3510-22-C

Comments and Responses

NMFS received four comment letters on the emergency rule from: One individual; the Conservation Law Foundation (CLF); the Stellwagen Bank Charter Boat Association (SBCBA); and an attorney on behalf of the Northeast Seafood Coalition (NSC) and the Gloucester Fishing Community Preservation Fund (GFCPF). None of the comments NMFS received compels it to let the emergency rule expire and as such, NMFS has published this extension. The basis for the emergency remains: There are no measures in place or that would be in place, but for an emergency rule extension, that would allow for the continued operation of the groundfish fishery.

Comments in Support of the Emergency Rule

Comment 1: One individual supported the emergency rule because it minimizes economic loss and ensures the continued operation of the Northeast multispecies fishery, while maintaining fish stock protection during a period of transition. That individual supported integration of the two-stock approach with the new four-stock method by incorporating the Council's updated scientific recommendations. The comment letter submitted on behalf of NSC and GFCPF stated that both organizations appreciated implementation of the emergency rule to ensure that the groundfish fishery was able to begin its fishing season on May 1, 2025, and continue operating. However, they also urged NMFS to revise the emergency measures.

Response: NMFS agrees with comments in support of the emergency rule.

Comments on the Justification for the Emergency Rule

Comment 2: CLF commented that NMFS failed to explain how the emergency rule was justified and failed to explain why the benefits of the emergency rule outweigh the process followed by the Council in the development of Amendment 25 and Framework Adjustment 69. CLF alleged that the events used to justify the emergency rule were neither unforeseen, nor recently discovered, and noted that the Council and the public were consistently informed by NMFS that failure to finalize Amendment 25 and Framework 69 would not warrant an emergency rule. CLF also alleged that NMFS failed to explain why the benefits of the emergency rule outweighed the open and transparent process that occurred during the Council's deliberations of Amendment 25 and Framework Adjustment 69, and that NMFS did not adequately document an economic argument.

Response: NMFS disagrees. The emergency rule fully complied with all applicable law. As explained in detail in the emergency rule, NMFS' policy guidelines for the use of emergency rules (62 FR 44421; August 21, 1997) specify 3 criteria for emergency rules: (1) The emergency results from recent, unforeseen events or recently discovered circumstances; (2) the emergency presents serious conservation or management problems in the fishery; and (3) the emergency can be addressed through emergency regulations for which the immediate benefits outweigh the value of advance notice, public comment, and deliberative consideration of the impacts on participants to the same extent as would be expected under the normal rulemaking process. NMFS' policy guidelines further provide that emergency action is justified for certain situations in which an emergency rule would prevent significant direct economic loss, or to preserve a significant economic opportunity that otherwise might be foregone.

NMFS' implementation of this emergency rule and its extension is consistent with NMFS' policy. During the development of Amendment 25 and Framework 69, the Council was informed that NMFS' policy states that an emergency rule may not be based on administrative inaction to solve a long-recognized problem. The inability to implement Amendment 25 and Framework 69 was not due to administrative inaction. The Council developed both actions with the expectation they could be reviewed and approved or disapproved in time for the beginning of the fishing year. NMFS also expected the actions would be reviewable in a timely manner and was acting as quickly as practicable. Throughout the development of Amendment 25 and Framework Adjustment 69, NMFS anticipated that both actions could be reviewed simultaneously in a way that allowed for the Secretary of Commerce to make decisions regarding both interrelated actions at the same time. NMFS' inability to complete the process mandated by the Magnuson-Stevens Act for both Amendment 25 and Framework Adjustment 69 in a coordinated and timely way that would allow for a decision and potential implementation prior to May 1, 2025, was unforeseen and contrary to its plan. At the beginning of the fishing year, the Amendment 25 decision was still pending and Framework 69 remained under NMFS consideration on May 1, necessitating the emergency rule to allow the fishery to operate and provide NMFS with an opportunity to complete, not replace, the Council and rulemaking process. The inability to complete this task was not inaction, however, as evidenced by NMFS' publication of the Amendment 25 notice of availability, reception and consideration of comments on Amendment 25, and its disapproval.

The emergency rule was justified to preserve a significant economic opportunity that otherwise might be foregone. In the absence of Framework Adjustment 69's specifications and other measures, vessels enrolled in groundfish sectors, which comprise the vast majority of the commercial groundfish fleet, would not have been authorized to fish when the fishing year began on May 1 without an emergency rule. Measures for the recreational fishery and the commercial common pool in the emergency rule also were necessary to allow those fisheries to operate while preventing overfishing of Atlantic cod. As discussed in detail in the Regulatory Impact Review included in the Supplemental Information Report (see ADDRESSES) that accompanied the emergency rule, the emergency rule was estimated to result in an estimated commercial groundfish revenue of approximately $33M relative to no action (not allocating ACE to groundfish sectors) that would have resulted in negligible revenue.

Comment 3: CLF alleged that NMFS failed to meet the Magnuson-Stevens Act timing requirement outlined in 16 U.S.C. 1854(b) with regard to the NMFS' justification for the emergency rule. CLF questioned why NMFS failed to make a determination and publish proposed regulations for Framework Adjustment 69 for public comment within 15 days of the Council submitting the action.

Response: The Magnuson-Stevens Act, in section 304(b), requires the Secretary of Commerce to immediately initiate an evaluation of proposed regulations submitted by a council to determine whether they are consistent with the FMP, council action, the Magnuson-Stevens Act, and other applicable law. Within 15 days of initiating such evaluation the Secretary must make a determination and, if that determination is affirmative, publish the regulations in the Federal Register for public comment.

As stated in the temporary rule, it was necessary to address the emergency presented by a gap of approved specifications and other measures for fishing year 2025. The actions recommended by the Council in Amendment 25 and Framework Adjustment 69 could not have proceeded through notice and comment rulemaking toward approval or disapproval prior to the beginning of the Northeast multispecies fishing year on May 1, 2025. Earlier publication of the proposed regulations would not have changed this determination.

Calculation of Cod Quotas

Comment 4: The comment submitted on behalf of NSC and GFCPF alleged that the emergency rule is not consistent with applicable law and urged that the emergency rule be revised. They also alleged that the disapproval of Amendment 25 means there is no legal basis to set cod specifications based on the 2024 assessments for the four new cod stocks. The comment stated that the GB and GOM cod emergency specifications should be set at 75 percent of the 2024 ACLs for the remainder of the 180-day effective period of the emergency rule while revised assessments should be completed for the GB and GOM cod stocks. The SBCBA recommended that NMFS consider limited 2025 assessments of Western Gulf of Maine (WGOM) cod and Southern New England (SNE) cod that incorporate data from the Recreational Biological Sampling Program (RecBio) and the Atlantic States Marine Fisheries Commission's Hook and Line Survey.

Response: NMFS disagrees that the emergency rule is inconsistent with applicable law. National Standard 2 requires that conservation and management measures be based upon the best scientific information available (BSIA). The National Standard 2 guidelines codified at 50 CFR 600.315 discuss scientific information, verification and validation, the role of the Council's Scientific and Statistical Committee (SSC) in the evaluation of scientific information and advising the Council, the use of BSIA in decision making, and the timeliness of management actions. Specifically, in § 600.315(e), the guidelines state that FMPs should be amended on a timely basis as new information indicates the necessity for change and that FMPs must take into account the BSIA available at the time of preparation.

On May 19, 2025, NMFS notified the Council that Amendment 25 was disapproved. As a result, the Northeast Multispecies FMP continues to include two cod stocks: GOM cod and GB cod. However, the BSIA for Atlantic cod remains the June 2024 management track assessments for Eastern Gulf of Maine (EGOM) cod, WGOM cod, GB cod, and SNE cod. The SSC reviewed the four assessments at its July 2024 meeting and recommended overfishing limits (OFL) and acceptable biological catches (ABC) for the four stocks for fishing years 2025, 2026, and 2027. Consistent with National Standard 2, that information must be considered when setting quotas.

As stated in the emergency rule, beginning May 1, 2025, there were no existing approved specifications for the existing two stocks of Atlantic cod for fishing year 2025. The Northeast Multispecies FMP includes provisions, at § 648.90(a)(3), for setting default specifications for up to 6 months. Default catch limits are set at the lesser of 75 percent of the previous year's specifications or the Council's recommended specifications for the current year. As described in detail in the emergency rule, NMFS determined the default allocations of 75 percent would exceed the Council's recommended U.S. ABCs for the proposed four stocks of Atlantic cod in Framework Adjustment 69, and the default allocations of 75 percent would also exceed the Council's recommended 2025 U.S. ABCs when translated to the current two stocks. To ensure the emergency rule prevents overfishing while it is in effect, and to be consistent with the Northeast Multispecies FMP's default specification provisions, NMFS set fishing year 2025 specifications for the existing GB cod and GOM cod stocks based on an application of the Council-recommended four Atlantic cod ABCs, which are based on the BSIA and reflect the biological conditions of the four stocks. This rule extends those specifications through the remainder of fishing year 2025.

Because the four-stock structure for Atlantic cod is the BSIA, new assessments of the old stocks of GB cod and GOM cod would be inconsistent with National Standard 2, and there is insufficient available time or resources to conduct any new cod assessment this fishing year. The Northeast Region Coordinating Council (NRCC) is responsible for coordinating fisheries science resources and scheduling stock assessments. Assessment resources are extraordinarily limited. There is no reasonable way to reassess these stocks as urged given the limited time and resources. To the contrary, these limitations have required postponement of many assessments, including Atlantic cod. At its August 2025 meeting, the NRCC decided not to re-assess Atlantic cod stocks until at least 2027. At that time, the assessment scientists would review available data sets and determine which to include, including the possibility of incorporating the RecBio information and the Commission's Hook and Line Survey.

Comment 5: One individual suggested that NMFS provide a simple diagram or flowchart to explain how historical cod allocations are calculated, how the 75-percent default quotas are calculated, and how the 2024 management track assessments were used in calculating quotas for 2025.

Response: In the emergency rule published on May 2, 2025, NMFS included Table 1 (2025 Atlantic Cod Quotas Calculated Using Council's Recommendations in Framework 69). That table shows the ABCs for the four new cod stocks recommended by the SSC and how they were used to calculate the ABCs for the existing GB and GOM cod stocks. The apportionment percentage used for WGOM cod in Table 1 is based on the Council's preferred alternative in Framework Adjustment 69 (see ADDRESSES) and the underlying analyses for that apportionment are not reprinted here. Each year, NMFS sends a letter to each limited access permit holder that details the amount of fish (in pounds) that the permit would contribute to a sector if enrolled in the coming fishing year and how those amounts are calculated. Information about the calculation of potential sector contributions is available on the web at: https://www.fisheries.noaa.gov/new-england-mid-atlantic/commercial-fishing/fishing-year-2025-sectors#annual-catch-entitlements.

Preventing Overfishing

Comment 6: CLF expressed concerns that continuing to manage Atlantic cod as two stocks would lead to continued overfishing of the WGOM and SNE cod stocks, and compromise rebuilding of the EGOM and GB cod stocks. CLF also raised a concern that the emergency rule prioritizes short-term economic benefits over the requirement to rebuild stocks and the long-term economic gains associated with rebuilt stocks. CLF suggested that the emergency rule should give more consideration to ending overfishing on the SNE and WGOM cod stocks, and preventing overfishing of the EGOM and GB cod stock, but acknowledged that no status determination (i.e., overfished and/or overfishing) can be made for these four stocks until they are added to the FMP.

Response: NMFS disagrees the emergency rule will allow overfishing but agrees that status determinations cannot be made for the four new cod stocks prior to their addition to the FMP. National Standard 1 requires that conservation and management measures prevent overfishing while achieving, on a continuing basis, the optimum yield from each fishery. The National Standard 1 guidelines codified at § 600.315 provide detailed information on how an FMP should meet these requirements. At § 600.310(e)(2)(i)(B), overfishing is defined as occurring when the level of fishing mortality or total catch of a stock jeopardizes the capacity of a stock or stock complex to produce maximum sustainable yield (MSY) on a continuing basis. As explained in the emergency rule published on May 2, 2025, and referenced in the response to comment 4, NMFS set fishing year 2025 specifications for the existing GB cod and GOM cod stocks based on an application of the Council-recommended four Atlantic cod ABCs, which are based on the BSIA and reflect the biological conditions of the four stocks. The quotas implemented by the emergency rule represent a balance between preventing overfishing and setting catch limits using scientific determinations based on four cod biological stock units and operationally equivalent measures for two cod biological stock units that are designed to reflect status quo conditions to the extent practicable during the period this action is in effect. The overall cod catch, when the Council's recommended four cod U.S. ABCs for 2025 from Framework Adjustment 69 are combined and allocated to GOM cod and GB cod, represents a 50-percent reduction in cod quotas overall from the 2024 fishing year for the two cod stocks. NMFS has determined that allowing fishing for one year at the calculated levels will not jeopardize the potential for any stock of Atlantic cod to produce MSY on a continuing basis. Future stock status determinations, assessments, and Council actions will incorporate the realized catch from 2025.

Calculation of the GB Haddock Quota

Comment 7: NSC and GFCPF argued that the U.S. ABC for GB haddock should be revised upward. In their comment, they alleged that the 2025 U.S. ABC for GB haddock is not based on BSIA and is therefore illegal. NSC and GFCPF raise concerns with the 2024 assessment of GB haddock on two bases: (1) The determination of the proportion of haddock in the Eastern and Western U.S. Canada Areas; and (2) a change made to the assessment model that improved the model's diagnostics.

Response: As described in the emergency rule, to prevent overfishing, NMFS set the 2025 U.S. ABC for GB haddock at 1,556 mt, consistent with the Council's recommendation in Framework Adjustment 69. The Council's recommendation was based on a new stock assessment completed in 2024. During its July 2024 review of that stock assessment, the Council's SSC determined the approach used in that assessment for spatial apportionment of biomass for domestic biomass was both appropriate and consistent with the method for U.S.-Canada resource sharing. The SSC provided several recommendations for future consideration, including topics related to the spatial apportionment. At its October 2024 meeting, the SSC recommended an OFL and total ABC to the Council, as required by the National Standard 2 guidelines at § 600.315(c). The SSC also recommended that the Northeast Fisheries Science Center should review the use of the log-normal adjustment in the model, and develop a well-documented and consistent approach to its application.

The National Standard 2 guidelines stipulate that the Council cannot exceed the SSC's recommendations. Thus, the 2025 GB haddock U.S. ABC implemented by the emergency rule is based on the BSIA and is consistent with the Magnuson-Stevens Act.

Management Uncertainty Buffer

Comment 8: CLF agreed with retaining the uncertainty buffer for sector allocations in the emergency rule. It commented that the implementation of the emergency rule increases management uncertainty around Atlantic cod. CLF also argued that staff reductions at NMFS and the potential for funding shortfalls to reduce the at-sea monitoring coverage of the fishery could also reduce the ability for NMFS to effectively manage the fishery. In its comment, CLF urged NMFS to maintain the uncertainty buffer in any future actions to address the increased uncertainty and suggested NMFS could request that the Council revisit the uncertainty buffers included in Framework Adjustment 69.

Response: NMFS agrees the uncertainty buffers for sectors should remain in place during the period the emergency rule is in place. However, NMFS disagrees that the Council should revisit the uncertainty buffers included in Framework Adjustment 69. The FMP specifies, at § 648.90(a)(4)(i)(B), that the need for a management uncertainty buffer for sector sub-ACLs will continue to be evaluated as part of each Council specification action. The PDT is required to consider whether the 100-percent monitoring coverage target supports a zero percent buffer, or any other factor has a significant potential to result in catches that could exceed ACLs, and will recommend an appropriate management uncertainty buffer if necessary.

Recreational Measures

Comment 9: The SBCBA raised concerns about the effects of the recreational cod measures implemented by the emergency rule. It requested that NMFS consider a liberalization of the recreational season or bag limit for GOM cod based on the cod catch that would have occurred during an open season in May if the Council's recommended recreational measures for WGOM had been implemented on May 1. It also recommended that NMFS implement the GOM cod recreational measures in statistical areas 521 and 526 (see Figure 1 in the May 2, 2025, emergency rule), which are part of the old GB cod stock area, but would be part of the new WGOM cod stock area. SBCBA also recommended that NMFS consider different measures for private recreational vessels and for the for-hire fleet (charter and party boats) to address their business needs. One individual also suggested NMFS pilot a temporary, adaptive, data-informed adjustment to the recreational possession limit for Atlantic cod in 2025 to better reflect current conditions.

Response: NMFS disagrees. As explained in the emergency rule, recreational catch of GB cod would contribute to catch in the State Waters sub-component and the Other sub-component. The interim GB cod sub-components implemented by the emergency rule, and extended in this rule, are very low at a combined 47 mt (103,617 lb), which cannot support a directed recreational cod fishery. Recreational cod catch resulting from implementing the GOM cod recreational measures in statistical areas 521 and 526 would count against the GB cod sub-components. Prohibiting possession of GB cod by private recreational vessels and for-hire recreational vessels is necessary to prevent overfishing of GB cod.

Stakeholder Engagement

Comment 11: The individual's comment suggested that NMFS hold at least one stakeholder consultation during 2025 to solicit public input on possible changes to the emergency measures implemented by the emergency rule. The commenter suggested this would provide an opportunity to review field observations and stock data to make potential mid-year adjustments.

Response: NMFS disagrees. The emergency rule published on May 2, 2025, solicited public comment through June 2, 2025. NMFS considered all comments submitted on the emergency rule prior to making a decision to extend the emergency measures through the end of the fishing year on April 30, 2026. In this rule, NMFS has responded to each written comment received. NMFS does not convene public meetings or input sessions as a way to collect input on emergency rules or emergency rule extensions.

Classification

The Assistant Administrator for Fisheries, NOAA, has determined that this extension to the emergency rule is consistent with the criteria and justifications for use of emergency measures in section 305(c) of the Magnuson-Stevens Act, and is consistent with the Northeast Multispecies FMP, other provisions of the Magnuson-Stevens Act, the Administrative Procedure Act (APA), and other applicable law.

Pursuant to 5 U.S.C. 553(b)(B), the Assistant Administrator for Fisheries, NOAA, finds good cause to waive prior notice and the opportunity for public comment because it would be impracticable and contrary to the public interest and would prevent the positive benefits this rule is intended to provide. This emergency action is necessary to relieve restrictions on the fishing industry and mitigate significant economic harm, while also preventing overfishing as required by statute.

Without additional action, the emergency measures implemented on May 1, 2025, to set management measures for the groundfish fishery for fishing year 2025 would end on October 28, 2025. This includes approval of the groundfish sectors' operations plans. Groundfish sectors constitute 96 percent of all commercial groundfish catch. Any delay in this emergency extension would require all sector vessels to stop fishing, unless and until a future rulemaking provided approval to resume operation. Additionally, the original emergency rule provided 30 days for public comment on the emergency measures. Thus, prior notice and opportunity for public comment for this extension rule would not provide any additional benefit than already provided by the comment opportunity provided by the May 2, 2025, publication. Further, prior notice and opportunity of public comment for this extension of that rule would not provide a benefit that would outweigh the need to avoid unnecessary economic harm on groundfish vessels.

For the same reasons stated above (in the discussion of 5 U.S.C. 553(b)(B)) and the following additional reasons, NOAA also finds good cause to waive the 30-day delay in the effective date, and implement this action on October 29, 2025 (the day the original emergency would have ended), pursuant to 5 U.S.C. 553(d)(3). This rule relieves restrictions that would prevent sector fishery members from fishing. Because vessels have already opted to operate in the sector system, they would be legally barred from operating in the groundfish fishery unless and until their sector's operations plan was approved. Commercial fishing vessel and Federal dealer operations benefit from both continuity and certainty. The sector fishery has operated for fifteen years under the sector system that provides them with well-known regulatory exemptions to restrictions that are provided by this action. Vessels do not need time to prepare for the implementation of this emergency rule, and instead need the immediate implementation of these measures to authorize them to fish consistent with their operations over the last 15 years.

This action is being taken pursuant to the emergency provision of the Magnuson-Stevens Act and is exempt from Office of Management and Budget review. This is not a regulatory action pursuant to Executive Order (E.O.) 14192. This emergency rule is exempt from the procedures of the Regulatory Flexibility Act because the rule is issued without opportunity for prior notice and opportunity for public comment.

This temporary rule for an emergency action contains no information collection requirements under the Paperwork Reduction Act of 1995.

I have determined that this action would not have a substantial direct effect on one or more Indian tribes, on the relationship between the Federal Government and Indian tribes, or on the distribution of power and responsibilities between the Federal Government and Indian tribes; therefore, consultation with tribal officials under E.O. 13175 is not required, and the requirements of sections (5)(b) and (5)(c) of E.O. 13175 also do not apply. A tribal summary impact statement under section (5)(b)(2)(B) and section (5)(c)(2)(B) of E.O. 13175 is not required and has not been prepared.

List of Subjects in 50 CFR Part 648

Fisheries, Fishing, Recordkeeping and reporting requirements.

Dated: October 1, 2025.
Samuel D. Rauch III,
Deputy Assistant Administrator for Regulatory Programs, National Marine Fisheries Service.

[FR Doc. 2025-19459 Filed 10-2-25; 8:45 am]

BILLING CODE 3510-22-P